DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them. OFAC is also publishing an update to the identifying information of persons currently included in the SDN List.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

A. On December 9, 2019, OFAC determined that the property and interests in property subject to U.S. jurisdiction of the following persons are blocked under the relevant sanctions authority listed below.

Individuals

1. ANDRIC, Goran, Serbia; DOB 21 Apr 1965; nationality Serbia; alt. nationality Bosnia and Herzegovina; citizen Serbia; alt. citizen United Kingdom; Gender Male (individual) [GLOMAG] (Linked To: TESIC, Slobodan).

Designated pursuant to section 1(a)(iii)(B) of Executive Order 13818 of December 20, 2017, “Blocking the Property of Persons Involved in Serious Human Rights Abuse or Corruption,” 82 FR 60839, 3 CFR, 2017 Comp., p. 399, (E.O. 13818) for having acted or purported to act for or on behalf of, directly or indirectly, TESIC, Slobodan, a person whose property and interests in property are blocked pursuant to E.O. 13818.

2. BRKIC, Nikola, Serbia; DOB 13 Jan 1954; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

3. CVJETKOVIC, Sreten, Serbia; DOB 15 Jan 1961; nationality Serbia; Gender Male; National ID No. 006789921 (Serbia) expires 25 May 2025 (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

4. KAPIDZIC, Esad (a.k.a. KAPIDZIC, Eso), Serbia; DOB 23 Jun 1959; alt. DOB 23 Jun 1958; POB Prijepolje, Montenegro; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

5. MARICIC, Ljubo, Serbia; DOB 10 Jan 1959; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

6. PETROVIC, Zoran, Serbia; DOB 25 Apr 1969; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

7. PETROVIC, Zelimir, Serbia; DOB 01 Sep 1981; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

8. SARENAC, Nebojsa, Serbia; DOB 25 Dec 1977; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

9. SUBOTIC, Milan, Serbia; DOB 08 Nov 1981; nationality Serbia; Gender Male (individual) [GLOMAG] (Linked To: TESIC, Slobodan).

Designated pursuant to section 1(a)(iii)(B) of E.O. 13818 for having acted or purported to act for or on behalf of, directly or indirectly, TESIC, Slobodan, a person whose property and interests in property are blocked pursuant to E.O. 13818.

10. LEMBERGS, Aivars, Ventspils, Latvia; DOB 26 Sep 1953; POB Jekabpils, Latvia; nationality Latvia; Gender Male (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to contracts or the extraction of natural resources, or bribery.

11. CHANDY, King (a.k.a. CHAN DY, King; a.k.a. CHANDY, Keung; a.k.a. CHANDY, Koeung), Cambodia; DOB 01 Mar 1959; alt. DOB 01 Mar 1958; Gender Female (individual) [GLOMAG] (Linked To: KIM, Kun).

Designated pursuant to section 1(a)(iii)(B) of E.O. 13818 for being owned or controlled by, or for having acted or purported to act for or on behalf of, directly or indirectly, KIM, Kun, a person whose property and interests in property are blocked pursuant to E.O. 13818.

12. KIM, Kun, Cambodia; DOB 01 Jan 1954; POB Chan Toung Village, Sralap Commune, Tbaung Khmum District, Cambodia; Gender Male; Passport N0000259216 (Cambodia) expires 10 Jun 2025; alt. Passport D0002907 (Cambodia) (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to contracts or the extraction of natural resources, or bribery.

13. PHARA, Kim, 135, St. 110 SR., Takhmao, Kandal, Cambodia; DOB 10 Sep 1984; POB Cambodia; Gender Male; Passport N0263817 (individual) [GLOMAG] (Linked To: KIM, Kun).

Designated pursuant to section 1(a)(iii)(B) of E.O. 13818 for being owned or controlled by, or for having acted or purported to act for or on behalf of, directly or indirectly, KIM, Kun, a person whose property and interests in property are blocked pursuant to E.O. 13818.

14. SOPHARY, Kim, 135, Street 110, Takhmao, Kandal 0811, Cambodia; DOB 12 Dec 1982; POB Kampong Cham, Cambodia; Gender Female; Passport N00013860 (Cambodia) expires 13 Aug 2024 (individual) [GLOMAG] (Linked To: KIM, Kun).

Designated pursuant to section 1(a)(iii)(B) of E.O. 13818 for being owned or controlled by, or for having acted or purported to act for or on behalf of, directly or indirectly, KIM, Kun, a person whose property and interests in property are blocked pursuant to E.O. 13818.

15. PHEAP, Try (a.k.a. PHEAP, Thy), N10AB Street 271 SK. Toek Laork III, Khan Toul Kork, Phnom Penh, Cambodia; DOB 15 Jul 1965; POB Kandal Province, Cambodia; Gender Male; Passport N0239194 (Cambodia) expires 21 Feb 2008 (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to contracts or the extraction of natural resources, or bribery.

Entities

1. ARANEKS DOO (a.k.a. ARANEKS DOO BEOGRAD-VOZDOVAC), Bulevar Oslobodenja 166, Belgrade 11010, Serbia; Tax ID No. 110965174 (Serbia); Registration Number 21407429 (Serbia) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

2. BUSINESS DIVERSITY LIMITED (a.k.a. BUSINESS DIVERSITY LTD), Unit 11/F, CNT Tower, 338 Hennessy Road, Wan Chai, Hong Kong; Registration Number 2421075 (Hong Kong) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

3. FALCON STRATEGIC SOLUTIONS DOO (a.k.a. FALCON STRATEGIC SOLUTIONS DOO BEOGRAD-PALILULA), Todora Manojlovica 28, Belgrade 11060, Serbia; Tax ID No. 110427636 (Serbia); Registration Number 21348953 (Serbia) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

4. FINROST LIMITED, Eleniko Building, Floor 4, Fla, 7 Stasandrou, Nicosia 1060, Cyprus; Registration Number HE 357180 (Cyprus) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

5. MELVALE CORPORATION DOO BEOGRAD (a.k.a. PREDUZECE ZA PROIZVODNJU, PROMET I USLUGE MELVALE CORPORATION DOO, BEOGRAD STARI GRAD), Tadeusa Koscuska 56, Belgrade 11000, Serbia; Tax ID No. 104150191 (Serbia); Registration Number 20100575 (Serbia) [GLOMAG] (Linked To: SARENAC, Nebojsa).

Designated pursuant to section 1(a)(iii)(B) of E.O. 13818 for being owned or controlled by, or for having acted or purported to act for or on behalf of, directly or indirectly, SARENAC, Nebojsa, a person whose property and interests in property are blocked pursuant to E.O. 13818.

6. MOONSTORM ENTERPRISES LIMITED, Elli Court, Flat No. 4, Floor No. 2, Arch. Makariou III 210, Limassol 3030, Cyprus; Registration Number HE247830 (Cyprus) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

7. TARDIGRADE LIMITED, Dimitriados 1, Limassol 4004, Cyprus; Registration Number C378737 (Cyprus) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

8. VECTURA TRANS DOO (a.k.a. VECTURA TRANS DOO NOVI BEOGRAD), Narodnih Heroja 16, Belgrade, Serbia; Tax ID No. 109894091 (Serbia); Registration Number 21262358 (Serbia) [GLOMAG] (Linked To: TESIC, Slobodan).

Designated pursuant to section 1(a)(iii)(B) of E.O. 13818 for being owned or controlled by, or for having acted or purported to act for or on behalf of, directly or indirectly, TESIC, Slobodan, a person whose property and interests in property are blocked pursuant to E.O. 13818.

9. VELCOM TRADE DOO BEOGRAD (a.k.a. VELCOM TRADE PREDUZECE ZA PROIZVODNJU PROMET I USLUGE DOO, BEOGRAD STARI GRAD), Tadeusa Koscuskog 56, Belgrade 11000, Serbia; Tax ID No. 102858071 (Serbia); Registration Number 17499858 (Serbia) [GLOMAG] (Linked To: ANDRIC, Goran).

Designated pursuant to section 1(a)(iii)(B) of E.O. 13818 for being owned or controlled by, or for having acted or purported to act for or on behalf of, directly or indirectly, ANDRIC, Goran, a person whose property and interests in property are blocked pursuant to E.O. 13818.

10. BIZNESA ATTISTIBAS ASOCIACIJA (a.k.a. “BUSINESS DEVELOPMENT ASSOCIATION”), 8-1 Uzavas iela, Ventspils LV-3601, Latvia; Tax ID No. 40008055717 (Latvia) [GLOMAG] (Linked To: LEMBERGS, Aivars).

Designated pursuant to section 1(a)(iii)(B) of E.O. 13818 for being owned or controlled by, or for having acted or purported to act for or on behalf of, directly or indirectly, LEMBERGS, Aivars, a person whose property and interests in property are blocked pursuant to E.O. 13818.

11. LATVIJAS TRANZITA BIZNESA ASOCIACIJA (a.k.a. LATVIAN TRANSIT BUSINESS ASSOCIATION; a.k.a. TRANSIT BUSINESS ASSOCIATION OF LATVIA), 66 Dzintaru iela, Ventspils LV-3602, Latvia; Tax ID No. 40008008110 (Latvia) [GLOMAG] (Linked To: LEMBERGS, Aivars).

Designated pursuant to section 1(a)(iii)(B) of E.O. 13818 for being owned or controlled by, or for having acted or purported to act for or on behalf of, directly or indirectly, LEMBERGS, Aivars, a person whose property and interests in property are blocked pursuant to E.O. 13818.

12. VENTSPILS ATTISTIBAS AGENTURA (a.k.a. VENTSPILS DEVELOPMENT AGENCY; a.k.a. VENTSPILS DEVELOPMENT ASSOCIATION), Inzenieru 101A, Ventspils 3601, Latvia; Tax ID No. 40008033300 (Latvia) [GLOMAG] (Linked To: LEMBERGS, Aivars).

Designated pursuant to section 1(a)(iii)(B) of E.O. 13818 for being owned or controlled by, or for having acted or purported to act for or on behalf of, directly or indirectly, LEMBERGS, Aivars, a person whose property and interests in property are blocked pursuant to E.O. 13818.

13. VENTSPILS FREEPORT AUTHORITY (a.k.a. FREEPORT OF VENTSPILS; a.k.a. FREEPORT OF VENTSPILS AUTHORITY; a.k.a. VENTSPILS FREE PORT; a.k.a. VENTSPILS FREEPORT), Jana 19, Ventspils LV-3601, Latvia [GLOMAG] (Linked To: LEMBERGS, Aivars).

Designated pursuant to section 1(a)(iii)(B) of E.O. 13818 for being owned or controlled by, or for having acted or purported to act for or on behalf of, directly or indirectly, LEMBERGS, Aivars, a person whose property and interests in property are blocked pursuant to E.O. 13818.

14. 7 MAKARA PHARY CO., LTD., Deaum Mien, Daeum Mien, Ta Khmau, Kandal 8252, Cambodia; Company Number 00037307 (Cambodia) [GLOMAG] (Linked To: SOPHARY, Kim).

Designated pursuant to section 1(a)(iii)(B) of E.O. 13818 for being owned or controlled by, or for having acted or purported to act for or on behalf of, directly or indirectly, SOPHARY, Kim, a person whose property and interests in property are blocked pursuant to E.O. 13818.

15. CAMBO ELITE SECURITY FORCE CO., LTD., Thmei, Ta Khmau, Ta Khmau, Kandal 8251, Cambodia; Company Number 00038610 (Cambodia) [GLOMAG] (Linked To: SOPHARY, Kim).

Designated pursuant to section 1(a)(iii)(B) of E.O. 13818 for being owned or controlled by, or for having acted or purported to act for or on behalf of, directly or indirectly, SOPHARY, Kim, a person whose property and interests in property are blocked pursuant to E.O. 13818.

16. K D RUBBER PLANTATION CO., LTD., 135, 110, Thmei, Ta Khmau, Ta Khmau, Kandal 8251, Cambodia; Company Number 00023622 (Cambodia) [GLOMAG] (Linked To: CHANDY, King).

Designated pursuant to section 1(a)(iii)(B) of E.O. 13818 for being owned or controlled by, or for having acted or purported to act for or on behalf of, directly or indirectly, CHANDY, King, a person whose property and interests in property are blocked pursuant to E.O. 13818.

17. ROMDOUL CAPITAL PAWN CO., LTD., 21, 352 Boeng Keng Kang Muoy, Chamkar Mon, Phnom Penh, Cambodia; Company Number 00005573 (Cambodia) [GLOMAG] (Linked To: PHARA, Kim).

Designated pursuant to section 1(a)(iii)(B) of E.O. 13818 for being owned or controlled by, or for having acted or purported to act for or on behalf of, directly or indirectly, PHARA, Kim, a person whose property and interests in property are blocked pursuant to E.O. 13818.

18. ROMDOUL DEVELOPMENT CO., LTD., Boeng Keng Kang Moy, Chamkar Mon, Phnom Penh, Cambodia; Company Number 00024848 (Cambodia) [GLOMAG] (Linked To: PHARA, Kim).

Designated pursuant to section 1(a)(iii)(B) of E.O. 13818 for being owned or controlled by, or for having acted or purported to act for or on behalf of, directly or indirectly, PHARA, Kim, a person whose property and interests in property are blocked pursuant to E.O. 13818.

19. M D S THMORDA S E Z CO., LTD. (a.k.a. MDS THMORDA SEZ), 10 AB, 271, Tuek L'ak Bei, Tuol Kouk, Phnom Penh, Cambodia; Company Number 00019416 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

20. M. D. S. IMPORT EXPORT CO., LTD. (a.k.a. MDS IMPORT EXPORT; a.k.a. MDS IMPORT EXPORT CO., LTD.), 10 AB, Tuek L'ak Bei, Tuol Kouk, Phnom Penh, Cambodia; Tax ID No. K005-105000833 (Cambodia); Company Number 00019488 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

21. PAPA PETROLEUM CO., LTD., 35, Voat Phnum, Doun Penh, Phnom Penh, Cambodia; Tax ID No. L001-901503571 (Cambodia); Company Number 00019413 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

22. TRY PHEAP DRY PORT CO., LTD., 35, 41 110 Voat Phnum, Doun Penh, Phnom Penh, Cambodia; Tax ID No. K003-100194060 (Cambodia); Company Number 00019406 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

23. TRY PHEAP ENGINEERING & CONSTRUCTION CO., LTD. (a.k.a. TRY PHEAP ENGINEERING AND CONSTRUCTION CO., LTD.), 3-5 Voat Phnum, Doun Penh, Phnom Penh, Cambodia; Tax ID No. L0001-901504050 (Cambodia); Company Number 00019414 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

24. TRY PHEAP GRAND ROYAL CAMBODIA CO., LTD., Voat Phnum, Doun Penh, Phnom Penh, Cambodia; Company Number 00014853 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

25. TRY PHEAP GROUP CO., LTD., 3, Voat Phnum, Doun Penh, Phnom Penh, Cambodia; Company Number 00019408 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

26. TRY PHEAP IMPORT EXPORT CO., LTD., 3 Voat Phnum, Doun Penh, Phnom Penh, Cambodia; Tax ID No. K003-100075533 (Cambodia); Company Number 00019401 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

27. TRY PHEAP OYADAV S E Z CO., LTD. (a.k.a. TRY PHEAP OU YA DAV), 1 A, 271, Tuek L'ak Bei, Tuol Kouk, Phnom Penh, Cambodia; Company Number 00019411 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

28. TRY PHEAP PROPERTY CO., LTD., 03 Voat Phnum, Doun Penh, Phnom Penh, Cambodia; Tax ID No. K003-901637752 (Cambodia); Company Number 00013378 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

29. TRY PHEAP TRAVEL & TOURS CO., LTD. (a.k.a. TRY PHEAP TRAVEL AND TOURS CO., LTD.), 3, Voat Phnum, Doun Penh, Phnom Penh, Cambodia; Tax ID No. K003-104019131 (Cambodia); Company Number 00019403 (Cambodia) [GLOMAG] (Linked To: PHEAP, Try).

Designated pursuant to section 1(a)(iii)(B) of E.O. 13818 for being owned or controlled by, or for having acted or purported to act for or on behalf of, directly or indirectly, PHEAP, Try, a person whose property and interests in property are blocked pursuant to E.O. 13818.

B. On December 9, 2019, OFAC published the following revised identifier information for the following person on the SDN List whose property and interests in property continue to be blocked pursuant to E.O. 13818.

Entity

1. TEHNOGLOBAL SYSTEMS DOO BEOGRAD (a.k.a. CALIDUS TRADE DOO; a.k.a. CALIDUS TRADE DOO BEOGRAD), Maglajska 19 11000, Beograd 6, Beograd, Serbia; Registration ID 20295066 (Serbia); Tax ID No. 105012258 [GLOMAG] (Linked To: TESIC, Slobodan).

Dated: December 9, 2019.
Andrea Gacki,
Director, Office of Foreign Assets Control.

[FR Doc. 2019-26787 Filed 12-11-19; 8:45 am]

BILLING CODE 4810-AL-P